ENVIRONMENTAL PROTECTION AGENCY

40 CFR Parts 144 and 146

[EPA-HQ-OW-2008-0390; FRL-8743-4]

RIN 2040-AE98

Proposed Federal Requirements Under the Underground Injection Control (UIC) Program for Carbon Dioxide (CO2) Geologic Sequestration (GS) Wells

AGENCY: Environmental Protection Agency.

ACTION: Extension of Comment Period.

SUMMARY: The Environmental Protection Agency (EPA) proposed regulations for the underground injection of carbon dioxide (CO2) for geologic sequestration under the authority of the Safe Drinking Water Act (SDWA) on July 25, 2008. The initial public comment period for this proposal was 120 days, ending on November 24, 2008. In response to requests, this action extends the public comment period for an additional 30 days.

DATES: EPA must receive your comments on or before December 24, 2008.

ADDRESSES: Submit your comments, identified by Docket ID No. EPA-HQ-OW-2008-0390, by one of the following methods:

• http://www.regulations.gov: Follow the on-line instructions for submitting comments.

• Mail: Water Docket, Environmental Protection Agency, Mailcode: 2822T, 1200 Pennsylvania Ave., NW., Washington, DC 20460.

• Hand Delivery: Water Docket, EPA Docket Center (EPA/DC) EPA West, Room 3334, 1301 Constitution Ave., NW., Washington, DC. Such deliveries are only accepted during the Docket's normal hours of operation, and special arrangements should be made for deliveries of boxed information.

Instructions: Direct your comments to Docket ID No. EPA-HQ-OW-2008-0390. EPA's policy is that all comments received will be included in the public docket without change and may be made available online at http://www.regulations.gov, including any personal information provided, unless the comment includes information claimed to be Confidential Business Information (CBI) or other information whose disclosure is restricted by statute. Do not submit information that you consider to be CBI or otherwise protected, through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Water Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the EPA Docket Center is (202) 566-2426.

FOR FURTHER INFORMATION CONTACT: Lee Whitehurst, Underground Injection Control Program, Drinking Water Protection Division, Office of Ground Water and Drinking Water (MC-4606M), Environmental Protection Agency, 1200 Pennsylvania Ave., NW., Washington, DC 20460; telephone number: (202) 564-3896; fax number: (202) 564-3756; e-mail address: whitehurst.lee@epa.gov. For general information, contact the Safe Drinking Water Hotline, telephone number: (800) 426-4791. The Safe Drinking Water Hotline is open Monday through Friday, excluding legal holidays.

SUPPLEMENTARY INFORMATION: In July 2008, EPA proposed requirements for underground injection of carbon dioxide for geologic sequestration. The proposal applies to owners or operators of wells that will be used to inject CO2 into the subsurface for the purpose of long-term storage. It proposes a new class of well (Class VI) and technical criteria for the geologic site characterization, area of review (AoR) and corrective action, well construction, operation, mechanical integrity testing, monitoring, well plugging, post-injection site care, and site closure for the purposes of protecting underground sources of drinking water.

For more information on Geologic Sequestration and the Underground Injection Control Program, please visit http://www.epa.gov/safewater/uic/index.html. To submit written comments, see the ADDRESSES section of this notice. Comments on the proposed rule must be received by December 24, 2008.

Dated: November 17, 2008.
Benjamin H. Grumbles,
Assistant Administrator, Office of Water.

[FR Doc. E8-27738 Filed 11-20-08; 8:45 am]

BILLING CODE 6560-50-P